DEPARTMENT OF ENERGY

Federal Energy Regulatory Commission

[Docket Nos. ER02-2001-000 and RM01-8-000]

Electric Quarterly Reports, Revised Public Utility Filing Requirements; Notice of Extension of Time

May 27, 2003.

On April 25, 2002, the Commission issued Order No. 2001,¹ a final rule which requires public utilities to file Electric Quarterly Reports (EQR). Order 2001-C, issued December 18, 2002, instructs all public utilities to file these reports using Electric Quarterly Report Submission Software, beginning with the report due on or before January 31, 2003 (extended to February 21, 2003). On March 28, 2003, the Commission issued Order 2001-D, requiring public utilities to review their fourth quarter 2002 EQR submissions to ensure that the data filed was correct. Utilities were directed to re-submit their corrected data by April 11, 2003, which was extended to April 18, 2003.

¹ Revised Public Utility Filing Requirements, Order No. 2001, 67 FR 31043, FERC Stats. & Regs. ¶ 31,127 (April 25, 2002); reh'g denied, Order No. 2001-A, 100 FERC ¶ 61,074, reconsideration and clarification denied, Order No.2001-B, 100 FERC ¶ 61,342 (2002).

On April 23, 2003, FERC staff discovered a problem in the “Copy Forward” feature of the EQR submission software. Although the feature was fixed, filers who used this feature before it was fixed may have had to re-enter some data that was previously manually entered into the software. The Commission is committed to ensuring that high quality in the data be filed in the EQRs and subsequently extended the filing deadline for first quarter 2003 EQRs to May 15, 2003.

Despite the extended due dates, several companies requested further extensions to the filing deadlines to resolve problems they experienced with compiling and formatting their data. Notice is hereby given that the deadlines for filing EQR data are extended to the dates listed for each company identified in the attachment to this notice.

Magalie R. Salas,
Secretary.

Attachment

Utility | Quarters requested | Date of requested extension
The ANP Companies ² | 1st Q 2003 | May 30, 2003.
Avista Turbine Power, Inc | 4th Q 2002; 1st Q 2003 | May 23, 2003.
CalPeak Power ³ | 2nd, 3rd, 4th Q 2002; 1st Q 2003 | June 24, 2003.
Coral Power ⁴ | 4th Q 2002; 1st Q 2003 | May 29, 2003.
Dominion Resources Services and Affiliates | 1st Q 2003 | May 31, 2003.
The Duke Companies ⁵ | 1st Q 2003 | May 22, 2003.
Horsehead Industries, Inc | 2nd, 3rd, 4th Q 2002; 1st Q 2003 | June 23, 2003.
Lamar Power Partners, LP | 2nd, 3rd, 4th Q 2002; 1st Q 2003 | June 16, 2003.
Morgan Stanley Capital Group, Inc | 4th Q 2002 | June 20, 2003.
PJM Interconnection, L.L.C. | 1st Q 2003 | May 16, 2003.
San Diego Gas & Electric Company | 4th Q 2002; 1st Q 2003 | June 6, 2003.
Sempra Energy Trading Corp. | 4th Q 2002; 1st Q 2003 | May 30, 2003.
² Includes the following companies: ANP Funding I, LLC, ANP Marketing Company, ANP Bellingham Energy Company, LLC, ANP Blackstone Energy Company, LLC and Milford Power Limited Partnership.
³ Includes: CalPeak Power—Border LLC, CalPeak Power—El Cajon LLC, CalPeak Power—Enterprise LLC, CalPeak Power—Midway LLC, CalPeak Power—Mission LLC, CalPeak Power—Panoche LLC, CalPeak Power—Vaca Dixon LLC.
⁴ Includes Coral Power, L.L.C., Coral Energy Management, and Coral Canada US.
⁵ Includes the following companies: Duke Energy North America, LLC, Duke Energy Power Marketing, LLC, Duke Energy St. Francis, LLC, Duke Energy Southaven, LLC and Duke Energy Trading and Marketing, L.L.C.

[FR Doc. 03-13739 Filed 6-2-03; 8:45 am]

BILLING CODE 6717-01-P